DEPARTMENT OF ENERGY

Federal Energy Regulatory Commission

[Project No. 13102-003—Alabama Demopolis Lock and Dam Hydroelectric Project]

Birch Power Company; Notice of Proposed Revised Restricted Service List for a Programmatic Agreement

Rule 2010 of the Federal Energy Regulatory Commission's (Commission) Rules of Practice and Procedure, 18 CFR 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Alabama Historical Commission (Alabama SHPO) and the Advisory Council on Historic Preservation (Advisory Council) pursuant to the Advisory Council's regulations, 36 CFR Part 800, implementing section 106 of the National Historic Preservation Act, as amended, (16 U.S.C. 470f), to prepare a Programmatic Agreement for managing properties included in, or eligible for inclusion in, the National Register of Historic Places that could be affected by issuance of a license for the Demopolis Lock and Dam Hydroelectric Project.

The Programmatic Agreement, when executed by the Commission and the Alabama SHPO, would satisfy the Commission's section 106 responsibilities for all individual undertakings carried out in accordance with the license until the license expires or is terminated (36 CFR 800.13[e]). The Commission's responsibilities pursuant to section 106 for the project would be fulfilled through the Programmatic Agreement, which Commission staff proposes to draft in consultation with Birch Power Company, the Alabama SHPO, the U.S. Army Corps of Engineers, the Poarch Band of Creek Indians, Alabama-Coushatta Tribe of Texas, Alabama-Quassarte Tribal Town, United Keetoowah Band of Cherokee Indians, Choctaw Nation of Oklahoma, Jena Band of Choctaw Indians, Muscogee (Creek) Nation, and Kialegee Tribal Town of the Muscogee (Creek) Nation.

For purposes of commenting on the Programmatic Agreement, we propose to make changes to the existing restricted service list, issued on August 12, 2013, for Project No. 13102-003 as follows:

Replace “Joseph Giliberti” with “Matthew Grunewald.”

Change the address for Lisa C. Baker, Acting THPO, United Keetoowah Band of Cherokee Indians, from “20525 S. Jules Valdez Road, Tahlequah, OK 74464” to “P.O. Box 746, Tahlequah, OK 74465.”

Change the address for Chief George Tiger or Representative, Kialegee Tribal Town of the Muscogee (Creek) Nation, from “P.O. Box 146, Wetumpka, OK 74883” to “P.O. Box 188, Okemah, OK 74859.”

Dated: November 14, 2013.
Kimberly D. Bose,
Secretary.

[FR Doc. 2013-27957 Filed 11-20-13; 8:45 am]

BILLING CODE 6717-01-P